DEPARTMENT OF COMMERCE

Foreign-Trade Zones Board

[Docket 56-2011]

Foreign-Trade Zone 118—Ogdensburg, NY Application for Reorganization Under Alternative Site Framework

An application has been submitted to the Foreign-Trade Zones (FTZ) Board (the Board) by the Ogdensburg Bridge and Port Authority, grantee of FTZ 118, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on September 20, 2011.

FTZ 118 was approved by the Board on June 3, 1985 (Board Order 304, 50 FR 24663, 06/12/85.

The current zone project includes the following sites: Site 1 (40 acres)—Ogdensburg Bridge and Port Authority Commerce Park, Commerce Park Drive, Ogdensburg, New York; and, Site 2 (32 acres)—Port of Ogdensburg, Lower Patterson Street, Ogdensburg, New York.

The grantee's proposed service area under the ASF would be St. Lawrence County, New York, as described in the application. If approved, the grantee would be able to serve sites throughout the service area based on companies' needs for FTZ designation. The proposed service area is within and adjacent to the Ogdensburg Customs and Border Protection port of entry.

The applicant is requesting authority to reorganize its existing zone project to include both of the existing sites as “magnet” sites. The ASF allows for the possible exemption of one magnet site from the “sunset” time limits that generally apply to sites under the ASF, and the applicant proposes that Site 2 be so exempted. No usage-driven sites are being requested at this time.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is November 29, 2011. Rebuttal comments in response to material submitted during the foregoing period may be submitted during the subsequent 15-day period to December 14, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Kathleen Boyce at Kathleen.Boyce@trade.gov or (202) 482-1346.

Dated: September 20, 2011.
Andrew McGilvray,
Executive Secretary.

[FR Doc. 2011-25306 Filed 9-29-11; 8:45 am]

BILLING CODE P